The President

3 CFR

Executive Order 13182 of December 23, 2000

Adjustments of Certain Rates of Pay

Correction

In Presidential document 00-33450 appearing on page 82879 in the issue of Friday, December 29, 2000, Section 7 should read as follows:

Sec. 7. Effective Dates. Schedule 8 is effective January 1, 2001. The other schedules contained herein are effective on the first day of the first applicable pay period beginning on or after January 1, 2001.

[FR Doc. C0-33450 Filed 2-12-01; 8:45 am]

BILLING CODE 1505-01-D